DEPARTMENT OF DEFENSE

Department of the Navy

[Docket ID: USN-2024-HQ-0008]

Proposed Collection; Comment Request

AGENCY: Department of the Navy, Department of Defense (DoD).

ACTION: 60-Day information collection notice.

SUMMARY: In compliance with the Paperwork Reduction Act of 1995, the Office of the Judge Advocate General of the Navy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 5, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Judge Advocate General Legal Assistance Division (Code 16), 1322 Patterson Avenue SE, Washington Navy Yard, DC 20374, ATTN: Ms. Kathlene Somerville, or call 202-685-4641.

SUPPLEMENTARY INFORMATION:

Title; Associated Form; and OMB Number: Navy Legal Assistance Client Intake Questionnaire; OPNAV 5801/1; OMB Control Number 0703-LITF.

Needs and Uses: Information collection via the Office of the Chief of Naval Operations 5801/1, “Navy Legal Assistance Client Intake Questionnaire,” is necessary for the purposes of generating periodic workload productivity and statistical reports, internal management of the office, and counsel assignment. Additionally, it provides an administrative record for use by attorneys and clerical personnel directly involved in rendering legal assistance. The information collection is authorized by 10 U.S. Code section 1044 and JAG Instruction 5801.2B.

Affected Public: Individuals or households.

Annual Burden Hours: 23,500.

Number of Respondents: 47,000.

Responses per Respondent: 1.

Annual Responses: 47,000.

Average Burden per Response: 30 minutes.

Frequency: On occasion.

Dated: May 30, 2024.
Aaron T. Siegel,
Alternate OSD Federal Register Liaison Officer, Department of Defense.

[FR Doc. 2024-12384 Filed 6-5-24; 8:45 am]

BILLING CODE 6001-FR-P